DEPARTMENT OF ENERGY

Federal Energy Regulatory Commission

Combined Notice of Filings

Take notice that the Commission has received the following Natural Gas Pipeline Rate and Refund Report filings:

Filings Instituting Proceedings

Docket Numbers: RP19-1391-000.

Applicants: LLOG Bluewater Holdings, LLC, LLOG Exploration Offshore, L.L.C., Murphy Exploration & Production Company.

Description: Joint Petition for Limited Waiver, et al. of LLOG Bluewater Holdings, LLC, et al.

Filed Date: 7/22/19.

Accession Number: 20190722-5049.

Comments Due: 5 p.m. ET 7/29/19.

Docket Numbers: RP19-1392-000.

Applicants: Dauphin Island Gathering Partners.

Description: 2019 Cash Out Report of Dauphin Island Gathering Partners.

Filed Date: 7/22/19.

Accession Number: 20190722-5086.

Comments Due: 5 p.m. ET 8/5/19.

Docket Numbers: RP19-1393-000.

Applicants: Northwest Pipeline LLC.

Description: § 4(d) Rate Filing: NWP Non-Conforming Filing—Intermountain, Puget, Southwest Gas to be effective 8/30/2019.

Filed Date: 7/23/19.

Accession Number: 20190723-5046.

Comments Due: 5 p.m. ET 8/5/19.

Docket Numbers: RP19-1394-000.

Applicants: Gulf South Pipeline Company, LP.

Description: § 4(d) Rate Filing: Amendment to Neg Rate Agmts (JERA 46435) to be effective 7/23/2019.

Filed Date: 7/23/19.

Accession Number: 20190723-5090.

Comments Due: 5 p.m. ET 8/5/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2019.
Nathaniel J. Davis, Sr.,
Deputy Secretary.

[FR Doc. 2019-16121 Filed 7-29-19; 8:45 am]

BILLING CODE 6717-01-P